DEPARTMENT OF HEALTH AND HUMAN SERVICES

Health Resources and Services Administration

Agency Information Collection Activities: Proposed Collection: Public Comment Request Scholarships for Disadvantaged Students Program Specific Form, OMB No. 0906-0073—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 28, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the information collection request title for reference.

Information Collection Request Title: Scholarships for Disadvantaged Students Program Specific Form, OMB No. 0906-0073—Revision.

Abstract: HRSA seeks to collect data on the Scholarships for Disadvantaged Students (SDS) Program Specific Form, which will assist the agency in making funding decisions for SDS program awards. The SDS Program Specific Form and another form, the Bureau of Health Workforce (BHW) Program Specific Data Form, are currently approved under OMB No. 0906-0073 with an expiration date of November 30, 2025. This clearance is for the approval of one form, the SDS Program Specific Form, and removal of the BHW Program Specific Data Form. For programmatic efficiency, HRSA will move the BHW Program Specific Data Form to another ICR that reports data outcomes post grant award. The information collection request has been renamed to the “Scholarships for Disadvantaged Students Program Specific Form” in accordance with these updates.

Need and Proposed Use of the Information: The SDS Program Specific Form seeks to assist HRSA in assessing applicants for the SDS Program, which is to make grant awards to eligible schools to provide scholarships to full-time, financially needy students from disadvantaged backgrounds enrolled in health professions programs. To qualify for participation in the SDS program, a school must carry out a program in accordance with section 737(d)(1)(B) of the Public Health Service Act (42 U.S.C. 293a(d)(1)(B)). To meet this requirement, a school must provide data via the SDS Program Specific Form that at least 20 percent of the school's full-time enrolled students and graduates are from a disadvantaged background. Additionally, to successfully make awards, the Secretary of Health and Human Services shall give priority to eligible entities based on proportions of students/graduates in accordance with section 737(c) of the Public Health Service Act (42 U.S.C. 293a(c)). This form will be used to collect 3 years of student and participant data from SDS program applicants and does not include substantive changes.

Likely Respondents: Institutions that apply for SDS program awards.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
SDS Program Specific Form | 340 | 1 | 340 | 14 | 4,760
Total | 340 |  | 340 |  | 4,760

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-09483 Filed 5-27-25; 8:45 am]

BILLING CODE 4165-15-P